DEPARTMENT OF HEALTH AND HUMAN SERVICES

National Institutes of Health

Center for Scientific Review; Amended Notice of Meeting

Notice is hereby given of a change in the meeting of the Gastrointestinal Mucosal Pathobiology Study Section, June 6, 2005, 9 a.m. to June 7, 2005, 5 p.m. Hyatt Regency Bethesda, One Bethesda Metro Center, 7400 Wisconsin Avenue, Bethesda, MD 20814 which was published in the Federal Register on May 11, 2005, 70 FR 24829-24832.

The meeting will be held June 5, 2005, 6 p.m. to June 6, 2005, 5 p.m. The location remains the same. The meeting is closed to the public.

Dated: May 16, 2005.
LaVerne Y. Stringfield,
Director, Office of Federal Advisory Committee Policy.

[FR Doc. 05-10319 Filed 5-23-05; 8:45 am]

BILLING CODE 4140-01-M